INTERNATIONAL TRADE COMMISSION

[Inv. No. 337-TA-522]

In the Matter of Certain Ink Markers and Packaging Thereof; Notice of Commission Decision Not To Review an Initial Determination Amending the Complaint and Notice of Investigation To Add Three Additional Respondents

AGENCY: U.S. International Trade Commission.

ACTION: Notice.

SUMMARY: Notice is hereby given that the U.S. International Trade Commission has determined not to review the presiding administrative law judge's (“ALJ's”) initial determination (“ID”) (Order. No. 5) amending the complaint and notice of investigation to add three additional respondents.

FOR FURTHER INFORMATION CONTACT: Irene H. Chen, Esq., Office of the General Counsel, U.S. International Trade Commission, 500 E Street, SW., Washington, DC 20436, telephone (202) 205-3112. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on (202) 205-1810.

SUPPLEMENTARY INFORMATION: The Commission instituted this investigation on August 18, 2004, based on a complaint filed on behalf of Sanford, L.P. of Freeport, Illinois (“complainant”). 69 FR 52029. The complaint, as supplemented, alleged violations of section 337 in the importation into the United States, the sale for importation, and the sale within the United States after importation of certain ink markers and packaging thereof by reason of infringement of U.S. Trademark Registration Nos. 807,818 and 2,721,523 and also by reason of infringement of trade dress. The notice of investigation identified 12 respondents.

On October 27, 2004, the complainant filed a motion to amend the complaint and notice of investigation, pursuant to Commission rule 210.14(b), to add three additional respondents: (1) Big Lots Stores, Inc. of Columbus, Ohio; (2) Big Lots, Inc. of Columbus, Ohio; and (3) Two Powers Enterprise Co., Ltd. of Taipei, Taiwan.

On November 4, 2004, the Commission investigative attorney filed a response supporting the motion. No other party responded to the motion.

On November 10, 2004, the ALJ issued the subject ID granting the motion to amend the complaint and notice of investigation. No petitions for review of the ID were filed.

The authority for the Commission's determination is contained in section 337 of the Tariff Act of 1930, as amended (19 U.S.C. 1337), and in section 210.42 of the Commission's Rules of Practice and Procedure (19 CFR 210.42).

Issued: December 13, 2004.
By order of the Commission.
Marilyn R. Abbott,
Secretary to the Commission.

[FR Doc. 04-27554 Filed 12-15-04; 8:45 am]

BILLING CODE 7020-02-P